DEPARTMENT OF TRANSPORTATION

Federal Highway Administration

[Docket No. FHWA-2013-0050]

Designation of the Primary Freight Network

AGENCY: Federal Highway Administration (FHWA), DOT.

ACTION: Notice of extension of deadline and comment period.

SUMMARY: The FHWA is extending the deadline and comment period for the Designation of the highway Primary Freight Network (PFN) notice, which was published on November 19, 2013, at 78 FR 69520. The original comment period is set to close on December 19, 2013. The extension is based on input received from DOT stakeholders that the December 19 closing date does not provide sufficient time for submission of comments to the docket. The FHWA agrees that the deadline and the comment period should be extended. Therefore, the closing date for submission of comments is extended to January 17, 2014, which will provide others interested in commenting additional time to submit comments to the docket.

DATES: Comments must be received on or before January 17, 2014.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE., W12-140, Washington, DC 20590-0001.

• Hand Delivery: West Building Ground Floor, Room W12-140, 1200 New Jersey Ave. SE., between 9 a.m. and 5 p.m., Monday through Friday, except Federal holidays. The telephone number is (202) 366-9329.

• Instructions: You must include the agency name and docket number at the beginning of your comments. All comments received will be posted without change to http://www.regulations.gov, including any personal information provided.

FOR FURTHER INFORMATION CONTACT: For questions about this program, contact Ed Strocko, FHWA Office of Freight Management and Operations, (202) 366-2997, or by email at Ed.Strocko@dot.gov. For legal questions, please contact Michael Harkins, FHWA Office of the Chief Counsel, (202) 366-4928, or by email at Michael.Harkins@dot.gov. Business hours for the FHWA are from 8:00 a.m. to 4:30 p.m., e.t., Monday through Friday, except Federal holidays.

SUPPLEMENTARY INFORMATION:

Background

On November 19, 2013, at 78 FR 69520, the FHWA published in the Federal Register a notice on the designation of the highway PFN.

The purpose of the notice was to publish the draft initial designation of the highway PFN as required by 23 U.S.C. 167(d), provide information regarding State designation of Critical Rural Freight Corridors (CRFCs) and the establishment of the complete National Freight Network (NFN), and to solicit comments on aspects of the NFN. The five areas for comment are: (1) Specific route deletions, additions, or modifications to the draft initial designation of the highway PFN contained in this notice; (2) the methodology for achieving a 27,000-mile final designation; (3) how the NFN and its components could be used by freight stakeholders in the future; (4) how the NFN may fit into a multimodal National Freight System; and (5) suggestions for an urban-area route designation process.

The original comment period for the notice closes on December 19, 2013. However, DOT stakeholders have expressed concern that this closing date does not provide sufficient time for submission of comments to the docket. To allow time for interested parties to submit comments, the closing date is changed from December 19, 2013, to January 17, 2014.

Authority: 23 U.S.C. 167; Section 1115 of Pub. L. 112-141.

Issued on: December 5, 2013.
Victor M. Mendez,
FHWA Administrator.

[FR Doc. 2013-29520 Filed 12-10-13; 8:45 am]

BILLING CODE 4910-22-P